DEPARTMENT OF LABOR

Occupational Safety and Health Administration

Maritime Advisory Committee for Occupational Safety and Health: Notice of Meeting

AGENCY: Occupational Safety and Health Administration (OSHA), Labor.

ACTION: Maritime Advisory Committee for Occupational Safety and Health: Notice of meeting.

SUMMARY: The Maritime Advisory Committee for Occupational Safety and Health (MACOSH), established under section 7 of the Occupational Safety and Health Act of 1970 to advise the Secretary of Labor on issues relating to occupational safety and health programs, policies, and standards for the maritime industries in the United States, will meet in Baltimore, Maryland.

DATES: MACOSH will meet on February 20 and 21, 2002, from 8:30 a.m. until approximately 5 p.m.

ADDRESSES: The Committee will meet at the Baltimore Marriott Waterfront Hotel, 800 Aliceanna Street, Baltimore, Maryland. Mail comments, views, or statements in response to this notice to Joseph V. Daddura, Acting Director, Office of Maritime Safety Standards, OSHA, U.S. Department of Labor, Room N-3609, 200 Constitution Avenue, NW., Washington, DC 20210. Telephone (202) 693-2086; fax: (202) 693-1663.

FOR FURTHER INFORMATION CONTACT: Joseph V. Daddura, Acting Director, Office of Maritime Safety Standards, OSHA: Telephone (202) 693-2086.

SUPPLEMENTARY INFORMATION: All interested persons are invited to attend the public meetings of MACOSH at the time and place indicated above. Individuals with disabilities wishing to attend should contact Theda Kenney at (202) 693-2222 no later than February 1, 2002, to obtain appropriate accommodations.

Meeting Agenda

This meeting will include discussion of the following subjects: MACOSH input on OSHA priorities, vertical tandem lifts in the longshoring industry, an update on the NIOSH diesel exhaust epidemiology study, an NFPA update on the changes to NFPA 306 “Control of Gas hazards on Vessels,” discussion of common issues with OSHA Advisory Committee on Construction Safety and Health, and MACOSH work group reports.

Public Participation

Written data, views, or comments for consideration by MACOSH on the various agenda items listed above may be submitted, preferably with copies, to Joseph V. Daddura at the address listed above. Submissions received by February 1, 2002, will be provided to the members of the committee and will be included in the record of the meeting.

Requests to make oral presentations to the Committee may be granted if time permits. Anyone wishing to make an oral presentation to the Committee on any of the agenda items noted above should notify Joseph V. Daddura by February 1, 2002. The request should state the amount of time desired, the capacity in which the person will appear, and a brief outline of the content of the presentation.

Authority: This notice issued under the authority of sections 6(b)(1) and 7(b) of the Occupational Safety and Health Act of 1970 (29 U.S.C. 655, 656), the Federal Advisory Committee Act (5 U.S.C. App. 2), and 29 CFR part 1912.

Signed at Washington, DC this 12th day of December 2001.
John L. Henshaw,
Assistant Secretary of Labor.

[FR Doc. 01-31189 Filed 12-18-01; 8:45 am]

BILLING CODE 4510-26-M